DEPARTMENT OF COMMERCE

National Oceanic and Atmospheric Administration

[I.D. 121504F]

New England Fishery Management Council; Public Meeting

AGENCY: National Marine Fisheries Service (NMFS), National Oceanic and Atmospheric Administration (NOAA), Commerce.

ACTION: Agenda revision of a public meeting.

SUMMARY: The New England Fishery Management Council (Council) is scheduling a public meeting of its Scallop Oversight Committee in January, 2005.

DATES: The meeting will be held on Wednesday, January 26, 2005, at 9:30 a.m.

ADDRESSES: Four Points By Sheraton, 407 Squire Road, Revere, MA 02151; telephone:(781) 284-7200.

FOR FURTHER INFORMATION CONTACT: Paul J. Howard, Executive Director, New England Fishery Management Council (978) 465-0492. Requests for special accommodations should be addressed to the New England Fishery Management Council, 50 Water Street, Newburyport, MA 01950; telephone: (978) 465-0492.

SUPPLEMENTARY INFORMATION: The Oversight Committee will review the analysis of General Category vessel monitoring system (VMS) alternatives in Framework Adjustment 17 and recommend a final alternative to the Council. The committee will also discuss safety at sea issues with respect to the broken trip/DAS rebate program, and any other aspects of the scallop plan as may be deemed appropriate, and the related Executive Committee discussion held on January 5, 2005, scallop research priorities and the TAC/DAS set-aside research application review process, following a presentation by NMFS Regional Office staff. Other business may be discussed, as needed. Finally, the agenda includes a closed-door session at the end of the meeting to develop Advisory Panel appointment recommendations.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: January 4, 2005.
Alan D. Risenhoover,
Acting Director, Office of Sustainable Fisheries, National Marine Fisheries Service.

[FR Doc. E5-30 Filed 1-6-05; 8:45 am]

BILLING CODE 3510-22-S